DEPARTMENT OF ENERGY

Federal Energy Regulatory Commission

Combined Notice of Filings #1

Take notice that the Commission received the following exempt wholesale generator filings:

Docket Numbers: EG24-244-000.

Applicants: Ray Ranch Solar LLC.

Description: Ray Ranch Solar LLC submits Notice of Self-Certification of Exempt Wholesale Generator Status.

Filed Date: 7/30/24.

Accession Number: 20240730-5147.

Comment Date: 5 p.m. ET 8/20/24.

Docket Numbers: EG24-245-000.

Applicants: Twin Lakes Solar LLC.

Description: Twin Lakes Solar LLC submits Notice of Self-Certification of Exempt Wholesale Generator Status.

Filed Date: 7/30/24.

Accession Number: 20240730-5148.

Comment Date: 5 p.m. ET 8/20/24.

Docket Numbers: EG24-246-000.

Applicants: Duane Arnold Solar II, LLC.

Description: Duane Arnold Solar II, LLC submits Notice of Self-Certification of Exempt Wholesale Generator Status.

Filed Date: 7/31/24.

Accession Number: 20240731-5034.

Comment Date: 5 p.m. ET 8/21/24.

Docket Numbers: EG24-247-000.

Applicants: 69SV 8me LLC.

Description: 69SV 8me LLC submits Notice of Self-Certification of Exempt Wholesale Generator Status.

Filed Date: 7/31/24.

Accession Number: 20240731-5156.

Comment Date: 5 p.m. ET 8/21/24.

Take notice that the Commission received the following electric rate filings:

Docket Numbers: ER23-861-001.

Applicants: California Independent System Operator Corporation.

Description: Compliance filing: 2024-07-31 Compliance Filing of Effective Date—TCA—Citizen S-Line to be effective 6/12/2024.

Filed Date: 7/31/24.

Accession Number: 20240731-5090.

Comment Date: 5 p.m. ET 8/21/24.

Docket Numbers: ER24-2149-002.

Applicants: Entergy Arkansas, LLC.

Description: Tariff Amendment: Union Electric WDS Agreement to be effective 8/1/2024.

Filed Date: 7/31/24.

Accession Number: 20240731-5105.

Comment Date: 5 p.m. ET 8/21/24.

Docket Numbers: ER24-2408-001.

Applicants: Duke Energy Florida, LLC, Duke Energy Carolinas, LLC.

Description: Tariff Amendment: Duke Energy Florida, LLC submits tariff filing per 35.17(b): DEF—Amendment to Pending Revisions to Attachment J to Joint OATT (LGIP/LGIA) to be effective 9/1/2024.

Filed Date: 7/30/24.

Accession Number: 20240730-5153.

Comment Date: 5 p.m. ET 8/20/24.

Docket Numbers: ER24-2431-001.

Applicants: Duke Energy Progress, LLC, Duke Energy Carolinas, LLC.

Description: Tariff Amendment: Duke Energy Progress, LLC submits tariff filing per 35.17(b): DEC-DEP Amendment to Pending Revisions to Attachment K to Joint OATT to be effective 9/1/2024.

Filed Date: 7/31/24.

Accession Number: 20240731-5073.

Comment Date: 5 p.m. ET 8/21/24.

Docket Numbers: ER24-2626-000.

Applicants: California Independent System Operator Corporation.

Description: 205(d) Rate Filing: 2024-07-30 First Amended Generator Scheduling Agreement—WAPA to be effective 11/1/2024.

Filed Date: 7/30/24.

Accession Number: 20240730-5164.

Comment Date: 5 p.m. ET 8/20/24.

Docket Numbers: ER24-2627-000.

Applicants: Pacific Gas and Electric Company.

Description: 205(d) Rate Filing: Q2 2024 Quarterly Filing of City and County of San Francisco's WDT SA (SA 275) to be effective 6/30/2024.

Filed Date: 7/31/24.

Accession Number: 20240731-5000.

Comment Date: 5 p.m. ET 8/21/24.

Docket Numbers: ER24-2628-000.

Applicants: Gravel Pit Solar, LLC.

Description: Baseline eTariff Filing: Filing of Co-Tenancy and Shared Facilities Agreement to be effective 9/11/2024.

Filed Date: 7/31/24.

Accession Number: 20240731-5021.

Comment Date: 5 p.m. ET 8/21/24.

Docket Numbers: ER24-2629-000.

Applicants: DESRI Gravel Pit Construction Borrower, L.L.C.

Description: Baseline eTariff Filing: Filing of Co-Tenancy and Shared Facilities Agreement to be effective 9/11/2024.

Filed Date: 7/31/24.

Accession Number: 20240731-5022.

Comment Date: 5 p.m. ET 8/21/24.

Docket Numbers: ER24-2630-000.

Applicants: Gravel Pit Solar III, LLC.

Description: Initial rate filing: Filing of Co-Tenancy and Shared Facilities Agreement to be effective 9/11/2024.

Filed Date: 7/31/24.

Accession Number: 20240731-5023.

Comment Date: 5 p.m. ET 8/21/24.

Docket Numbers: ER24-2631-000.

Applicants: Gravel Pit Solar IV, LLC.

Description: Initial rate filing: Filing of Co-Tenancy and Shared Facilities Agreement to be effective 9/11/2024.

Filed Date: 7/31/24.

Accession Number: 20240731-5024.

Comment Date: 5 p.m. ET 8/21/24.

Docket Numbers: ER24-2632-000.

Applicants: DESRI Gravel Pit Construction Borrower, L.L.C.

Description: Initial rate filing: Filing of Shared Facilities Agreement and Request for Waivers to be effective 9/11/2024.

Filed Date: 7/31/24.

Accession Number: 20240731-5026.

Comment Date: 5 p.m. ET 8/21/24.

Docket Numbers: ER24-2633-000.

Applicants: Avista Corporation.

Description: 205(d) Rate Filing: Avista RS T1238 Glendive Wind Cert of Concurrence to be effective 6/18/2024.

Filed Date: 7/31/24.

Accession Number: 20240731-5068.

Comment Date: 5 p.m. ET 8/21/24.

Docket Numbers: ER24-2634-000.

Applicants: Avista Corporation.

Description: 205(d) Rate Filing: Avista RS T1239 Glendive Wind Cert of Concurrence to be effective 6/18/2024.

Filed Date: 7/31/24.

Accession Number: 20240731-5071.

Comment Date: 5 p.m. ET 8/21/24.

Docket Numbers: ER24-2635-000.

Applicants: AlbertaEx, L.P.

Description: Compliance filing: Notification of Non-Material Change in Status and MBR Tariff Changes to be effective 9/30/2024.

Filed Date: 7/31/24.

Accession Number: 20240731-5074.

Comment Date: 5 p.m. ET 8/21/24.

Docket Numbers: ER24-2636-000.

Applicants: ISO New England Inc., New England Power Pool Participants Committee.

Description: 205(d) Rate Filing: ISO New England Inc. submits tariff filing per 35.13(a)(2)(iii): 135th Agreement Amending NEPOOL Agreement & Participants Agreement Amendment #13 to be effective 8/1/2024.

Filed Date: 7/31/24.

Accession Number: 20240731-5075.

Comment Date: 5 p.m. ET 8/21/24.

Docket Numbers: ER24-2637-000.

Applicants: Middletown Coke Company, LLC.

Description: Compliance filing: Middletown Coke Tariff Filing July 31 2024 to be effective 8/1/2024.

Filed Date: 7/31/24.

Accession Number: 20240731-5078.

Comment Date: 5 p.m. ET 8/21/24.

Docket Numbers: ER24-2638-000.

Applicants: PJM Interconnection, L.L.C.

Description: 205(d) Rate Filing: Amended ISA, Service Agreement No. 6031; AB2-136 to be effective 9/30/2024.

Filed Date: 7/31/24.

Accession Number: 20240731-5089.

Comment Date: 5 p.m. ET 8/21/24.

Docket Numbers: ER24-2639-000.

Applicants: Alabama Power Company, Georgia Power Company, Mississippi Power Company.

Description: 205(d) Rate Filing: Alabama Power Company submits tariff filing per 35.13(a)(2)(iii): Centaurus Solar Amended and Restated LGIA Filing to be effective 7/24/2024.

Filed Date: 7/31/24.

Accession Number: 20240731-5103.

Comment Date: 5 p.m. ET 8/21/24.

Docket Numbers: ER24-2640-000.

Applicants: PJM Interconnection, L.L.C.

Description: 205(d) Rate Filing: Original WMPA, Service Agreement No. 7318; AG1-469 to be effective 7/2/2024.

Filed Date: 7/31/24.

Accession Number: 20240731-5104.

Comment Date: 5 p.m. ET 8/21/24.

Docket Numbers: ER24-2641-000.

Applicants: Bayou Cove Peaking Power, LLC.

Description: 205(d) Rate Filing: Normal filing 2024 to be effective 8/1/2024.

Filed Date: 7/31/24.

Accession Number: 20240731-5106.

Comment Date: 5 p.m. ET 8/21/24.

Docket Numbers: ER24-2642-000.

Applicants: PJM Interconnection, L.L.C.

Description: 205(d) Rate Filing: Original WMPA Service Agreement No. 7316, AF2-054 to be effective 7/2/2024.

Filed Date: 7/31/24.

Accession Number: 20240731-5108.

Comment Date: 5 p.m. ET 8/21/24.

Docket Numbers: ER24-2643-000.

Applicants: Arizona Public Service Company.

Description: 205(d) Rate Filing: Rate Schedule No. 217, Exhibit B.BKE-LIB to be effective 10/1/2024.

Filed Date: 7/31/24.

Accession Number: 20240731-5113.

Comment Date: 5 p.m. ET 8/21/24.

Docket Numbers: ER24-2644-000.

Applicants: Big Cajun I Peaking Power LLC.

Description: 205(d) Rate Filing: Normal filing 2024 to be effective 8/1/2024.

Filed Date: 7/31/24.

Accession Number: 20240731-5124.

Comment Date: 5 p.m. ET 8/21/24.

Docket Numbers: ER24-2645-000.

Applicants: Cottonwood Energy Company LP.

Description: 205(d) Rate Filing: Normal filing 2024 to be effective 8/1/2024.

Filed Date: 7/31/24.

Accession Number: 20240731-5136.

Comment Date: 5 p.m. ET 8/21/24.

Docket Numbers: ER24-2646-000.

Applicants: Louisiana Generating LLC.

Description: 205(d) Rate Filing: Normal filing 2024 to be effective 8/1/2024.

Filed Date: 7/31/24.

Accession Number: 20240731-5141.

Comment Date: 5 p.m. ET 8/21/24.

Docket Numbers: ER24-2647-000.

Applicants: PJM Interconnection, L.L.C.

Description: 205(d) Rate Filing: Original GIA, Service Agrement No. 7317, AF1-237 to be effective 7/2/2024.

Filed Date: 7/31/24.

Accession Number: 20240731-5146.

Comment Date: 5 p.m. ET 8/21/24.

Docket Numbers: ER24-2648-000.

Applicants: Granite Shore Power.

Description: 205(d) Rate Filing: Normal filing 2024 to be effective 8/1/2024.

Filed Date: 7/31/24.

Accession Number: 20240731-5148.

Comment Date: 5 p.m. ET 8/21/24.

Docket Numbers: ER24-2649-000.

Applicants: GSP Merrimack LLC.

Description: 205(d) Rate Filing: Normal filing 2024 to be effective 8/1/2024.

Filed Date: 7/31/24.

Accession Number: 20240731-5152.

Comment Date: 5 p.m. ET 8/21/24.

Docket Numbers: ER24-2650-000.

Applicants: GSP Newington LLC.

Description: 205(d) Rate Filing: Normal filing 2024 to be effective 8/1/2024.

Filed Date: 7/31/24.

Accession Number: 20240731-5155.

Comment Date: 5 p.m. ET 8/21/24.

Docket Numbers: ER24-2651-000.

Applicants: GSP Schiller LLC.

Description: 205(d) Rate Filing: Normal filing 2024 to be effective 8/1/2024.

Filed Date: 7/31/24.

Accession Number: 20240731-5164.

Comment Date: 5 p.m. ET 8/21/24.

Docket Numbers: ER24-2652-000.

Applicants: GSP White Lake LLC.

Description: 205(d) Rate Filing: Normal filing 2024 to be effective 8/1/2024.

Filed Date: 7/31/24.

Accession Number: 20240731-5165.

Comment Date: 5 p.m. ET 8/21/24.

Take notice that the Commission received the following electric securities filings:

Docket Numbers: ES24-44-000.

Applicants: Wheeling Power Company.

Description: Application Under Section 204 of the Federal Power Act for Authorization to Issue Securities of Wheeling Power Company.

Filed Date: 7/29/24.

Accession Number: 20240729-5195.

Comment Date: 5 p.m. ET 8/19/24.

Docket Numbers: ES24-45-000; ES24-46-000; ES24-47-000; ES24-48-000; ES24-49-000; ES24-50-000; ES24-51-000.

Applicants: National Grid Generation LLC, New England Power Company, New England Hydro-Transmission Electric Company, Inc., Niagara Mohawk Power Corporation, Nantucket Electric Company, Massachusetts Electric Company, National Grid USA.

Description: Application Under Section 204 of the Federal Power Act for Authorization to Issue Securities of National Grid USA, et al. under ES24-45 et al.

Filed Date: 7/30/24.

Accession Number: 20240730-5185.

Comment Date: 5 p.m. ET 8/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: July 31, 2024.
Debbie-Anne A. Reese,
Acting Secretary.

[FR Doc. 2024-17399 Filed 8-6-24; 8:45 am]

BILLING CODE 6717-01-P